DEPARTMENT OF LABOR

Employment and Training Administration

[TA-W-82,703]

Sanyo Solar of Oregon, LLC, Wafer Slicing and Quality Control Operations, Including On-Site Leased Workers From Brown and Dunton and Cirk Solutions, Inc., Salem, Oregon; Amended Certification Regarding Eligibility To Apply for Worker Adjustment Assistance

In accordance with Section 223 of the Trade Act of 1974, as amended (“Act”), 19 U.S.C. 2273, the Department of Labor issued a Certification of Eligibility to Apply for Worker Adjustment Assistance on June 7, 2013, applicable to workers of Sanyo Solar of Oregon, LLC, Wafer Slicing and Quality Control Operations, Salem, Oregon, including on-site leased workers from Brown and Dunton, Inc., Salem, Oregon. The Department's notice of determination was published in the Federal Register on July 2, 2013 (Volume 78 FR page 39778).

At the request of a company official, the Department reviewed the certification for workers of the subject firm. The workers were engaged in the production of polysilicon wafers and included workers who supplied quality control and support functions.

The company reports that workers leased from Cirk Solutions, Inc. were employed on-site at the Salem, Oregon location of Sanyo Solar of Oregon, LLC, Wafer Slicing and Quality Control Operations. The Department has determined that these workers were sufficiently under the control of the subject firm to be considered leased workers.

Based on these findings, the Department is amending this certification to include workers leased from Cirk Solutions, Inc. working on-site at the Salem, Oregon location of Sanyo Solar of Oregon, LLC, Wafer Slicing and Quality Control Operations.

The amended notice applicable to TA-W-82,703 is hereby issued as follows:

All workers of Cirk Solutions, Inc., reporting to Sanyo Solar of Oregon, LLC, Wafer Slicing and Quality Control Operations, Salem, Oregon, including on-site leased workers from Brown and Dunton, Inc., Salem, Oregon, who became totally or partially separated from employment on or after May 1, 2012, through June 7, 2015, and all workers in the group threatened with total or partial separation from employment on the date of certification through two years from the date of certification, are eligible to apply for adjustment assistance under Chapter 2 of Title II of the Trade Act of 1974, as amended.

Signed in Washington, DC, this 17th day of September, 2013.
Michael W. Jaffe,
Certifying Officer, Office of Trade Adjustment Assistance.

[FR Doc. 2013-24196 Filed 10-2-13; 8:45 am]

BILLING CODE 4510-FN-P